DEPARTMENT OF JUSTICE

Notice of Lodging of Proposed Consent Decree Under the Safe Drinking Water Act

On November 23, 2013 the Department of Justice lodged a proposed Consent Decree (“Decree”) with the United States District Court for the District of Wyoming in the lawsuit entitled United States v. Bryan Pownall, Civil Action No. 13-CV-142-F. The action concerns the public water system the defendant, Bryan Pownall (“Defendant”) uses to provide water to the Bryan's Place bar and a few trailer homes located in Rozet, Campbell County, Wyoming, about 16 miles east of Gillette, Wyoming. The Decree resolves the claims alleged in the United States' Complaint that Defendant failed to comply with routine monitoring, reporting, and other requirements of the Safe Drinking Water Act and the National Primary Drinking Water Regulations (“NPDWRs”), two administrative compliance orders issued by EPA on May 20, 2010 and July 24, 2011, and a final order issued by EPA on November 7, 2011 resolving an administrative complaint against Defendant. The Decree requires Defendant comply with a list of specific regulatory requirements for a period of four years, subject to an early termination provision. The Decree provides that if Defendant connects the Bryan's Place public water system to a new regional water system extended form Gillette, Wyoming to Rozet, Wyoming, and provides proof to EPA that Defendant is obtaining water from the new regional water system, the Decree can then be terminated.

The publication of this notice opens a period for public comment. Comments should be addressed to the Acting Assistant Attorney General, Environment and Natural Resources Division, and should refer to United States v. Bryan Pownall, D.J. Ref. No. DOJ # 90-5-1-1-10737. All comments must be submitted no later than thirty (30) days after the publication date of this notice. Comments may be submitted either by email or by mail:

Table 1—Summary of Interim Rule Impacts
To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $4.00 (25 cents per page reproduction cost) payable to the United States Treasury.

Robert Brook,
Assistant Section Chief, Environmental Enforcement Section, Environment and Natural Resources Division.

[FR Doc. 2013-29052 Filed 12-4-13; 8:45 am]

BILLING CODE 4410-15-P